DEPARTMENT OF TRANSPORTATION

National Highway Traffic Safety Administration

[Docket No. NHTSA-2001-9434]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before July 2, 2001.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 9 a.m. to 5 p.m.

FOR FURTHER INFORMATION CONTACT: For further information, contact Dr. William Fan, NHTSA, 400 Seventh Street, SW., Room 5320, NPS-11,Washington, DC 20590. Dr. Fan's telephone number is (202) 366-4922. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: Part 589—Upper Interior Component Head Impact Protection Phase-in Requirements.

Type of Request: Extension of a currently approved collection.

OMB Control Number: 2127-0581

Requested Expiration Date: Three years from the date of approval.

Affected Public: Business or for-profit.

Form Number: No standard form.

Summary of the Collection of Information: Manufacturers of passenger cars, trucks and multipurpose passenger vehicles with a gross vehicle weight rating of 4,536 kilograms or less and buses with a gross vehicle weight rating of 3,860 kilograms or less are required to respond to NHTSA inquiries, to submit a report, concerning the number of such vehicles that meet the upper interior component head impact protection requirements of Standard No. 201, Occupant Protection in Interior Impact (49 CFR 571.201).

Description of the Need for the Information: Title 49, Chapter 30115 of the U.S. Code specifies that the Secretary of Transportation shall require every manufacturer or distributor of a motor vehicle or motor vehicle equipment to furnish the distributor or dealer at the time of delivery certification that each item of motor vehicle equipment conforms to all applicable Federal Motor Vehicle Safety Standards (FMVSS).

Using this authority, the agency issued FMVSS No. 201, “Occupant Protection in Interior Impact,” specifying test procedures and requirements for passenger cars, multipurpose passenger vehicles, trucks, and buses. The standard specifies four optional implementation plans. There are two four-year phase-in implementation Plans starting on September 1, 1998 and with a full implementation on September 1, 2002. Vehicle manufacturers who choose these phase-in plans are required to report achievement of annual production quotas for the first four years during the phase-in period. The report is due within 60 days after August 31 of each production year. After the report is received, requirements will cease and no further report will be required.

Estimated Annual Reporting and Record-keeping Hour Burden: It was estimated in the original request that these phase-in requirements would apply to 35 vehicle manufacturers and that the average hour burden for each manufacturer would be about 36 hours. The estimates are still valid. The estimated total annual hour burden is, therefore, 1,260 hours.

Issued on: April 26, 2001.
Stephen R. Kratzke,
Associate Administrator for Safety Performance Standards.

[FR Doc. 01-10799 Filed 4-30-01; 8:45 am]

BILLING CODE 4910-59-P